DEPARTMENT OF STATE

[Public Notice: 10733]

Overseas Schools Advisory Council

AGENCY: Department of State.

ACTION: Notice of renewal of an advisory committee charter.

Renewal of Advisory Committee: The Secretary of State announces the renewal of the charter of the Overseas Schools Advisory Council in accordance with the Federal Advisory Committee Act. The charter was renewed on April 1, 2019.

Purpose: The main objectives of the Council are:

(a) To advise the Department of State regarding matters of policy and funding for the overseas schools.

(b) To help the overseas schools become showcases for excellence in education.

(c) To help make service abroad more attractive to American citizens who have school-age children, both in the business community and in Government.

(d) To identify methods to mitigate risks to American private sector interests worldwide.

FOR FURTHER INFORMATION CONTACT: Thomas Shearer, Director of the Office of Overseas Schools, and Executive Secretary for the Committee at (202) 261-8201, email: shearertp@state.gov.

Mary E. Russman,
Regional Education Officer, Office of Overseas Schools, Department of State.

[FR Doc. 2019-07433 Filed 4-12-19; 8:45 am]

BILLING CODE 4710-24-P